ENVIRONMENTAL PROTECTION AGENCY

[OPP-50867; FRL-6552-5]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Registration Division (7505C), Office of Pesticide Programs, Environmental Protection Agency, Ariel Rios Bldg., 1200 Pennsylvania Ave., NW., Washington, DC 20460.

In person or by telephone: Contact the designated person at the following address at the office location, telephone number, or e-mail address cited in each experimental use permit: 1921 Jefferson Davis Highway, Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations” and then look up the entry for this document under the “Federal Register—Environmental Documents.” You can also go directly to the Federal Register listings at http://www.epa.gov/fedrgstr/.

II. EUPs

EPA has issued the following EUPs:

241-EUP-147. Issuance. American Cyanamid Company, P.O. Box 400, Princeton, NJ 08543-0400. This experimental use permit allows the use of 408 pounds of the herbicide ammonium salt of imazethapyr on 3,712 acres of rice to evaluate the control of barnyardgrass, large crabgrass, red rice, broadleaf signalgrass, amazon sprangletop and bearded sprangletop. The program is authorized only in the States of Arkansas, Louisiana, Mississippi, Puerto Rico, and Texas. The experimental use permit is effective from April 6, 2000 to March 31, 2002. This permit is issued with the limitation that all treated crops will be destroyed, used for research purposes only, or are stored in a bonded warehouse. (James A. Tompkins; Rm. 241, Crystal Mall #2; telephone number: (703) 305-5697; e-mail address: tompkins.jim@epa.gov).

241-EUP-146. Issuance. American Cyanamid Company, P.O. Box 400, Princeton, NJ 08543-0400. This experimental use permit allows the use of 60 pounds of the herbicide ammonium salt of imazamox on 1,280 acres of wheat to evaluate the control of broadleaf and grass weeds. The program is authorized only in the States of Arizona, Colorado, Minnesota, Montana, and North Dakota. The experimental use permit is effective from April 18, 2000 to December 31, 2001. This permit is issued with the limitation that all treated crops will be destroyed, used for research purposes only, or are stored in a bonded warehouse. (James A. Tompkins; Rm. 241, Crystal Mall #2; telephone number: (703) 305-5697; e-mail address: tompkins.jim@epa.gov).

45639-EUP-60. Amendment and Extension. Aventis CropScience USA LP, 2 T.W. Alexander Drive, Research Triangle Park, NC 27709. This experimental use permit allows the use of 1,825 pounds of the herbicide glufosinate-ammonium on 2,500 acres of rice to evaluate the control of weeds. The program is authorized only in the States of Arkansas, Louisiana, and Texas. The experimental use permit is effective from March 17, 2000 to November 30, 2000. This permit was issued with the conditions that: (1) The rice seed will be secured in separate storage facilities and the quantity of seed, name and place, and person(s) in charge of the storage facilities are reported annually under section 172.8(b) until the stored rice seed is released for sale or other uses; (2) the rice seed derived from the use-pattern described on the labeling of the pesticide product used in this EUP will not be sold prior to registration of the use-pattern for rice; and (3) the rice straw is destroyed by incorporating it into soil, or by composting, followed by incorporating its compost into soil. (Eugene Wilson; Rm. 237, Crystal Mall #2; telephone number: (703) 305-6103; e-mail address: wilson.eugene@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: April 25, 2000.
James Jones,
Director, Registration Division, Office of Pesticide Programs.

[FR Doc. 00-11032 Filed 5-2-00; 8:45 am]

BILLING CODE 6560-50-F